NUCLEAR REGULATORY COMMISSION

[NRC-2014-0248]

Performance Review Boards for Senior Executive Service

AGENCY: Nuclear Regulatory Commission.

ACTION: Appointments.

SUMMARY: The U.S. Nuclear Regulatory Commission (NRC) has announced appointments to the NRC Performance Review Board (PRB) responsible for making recommendations on performance appraisal ratings and performance awards for Senior Executives and Senior Level employees and appointments to the NRC PRB Panel responsible for making recommendations to the appointing and awarding authorities for NRC PRB members.

DATES: December 3, 2014.

ADDRESSES: Please refer to Docket ID NRC-2014-0248 when contacting the NRC about the availability of information regarding this document. You may obtain publicly-available information related to this document using any of the following methods:

• Federal Rulemaking Web site: Go to http://www.regulations.gov and search for Docket ID NRC-2014-0248. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Miriam L. Cohen, Secretary, Executive Resources Board, telephone: 301-287-0747, email: Miriam.Cohen@nrc.gov, U.S. Nuclear Regulatory Commission, Washington, DC 20555.

SUPPLEMENTARY INFORMATION: The following individuals are appointed as members of the NRC PRB responsible for making recommendations to the appointing and awarding authorities on performance appraisal ratings and performance awards for Senior Executives and Senior Level employees:

Mark A. Satorius, Executive Director for Operations

Margaret M. Doane, General Counsel

Darren B. Ash, Deputy Executive Director for Corporate Management, Office of the Executive Director for Operations

Cynthia A. Carpenter, Director, Office of Administration

Catherine Haney, Director, Office of Nuclear Material Safety and Safeguards

Michael R. Johnson, Deputy Executive Director for Reactor and Preparedness Programs, Office of the Executive Director for Operations

Nader L. Mamish, Director, Office of International Programs

Cynthia D. Pederson, Regional Administrator, Region III

Brian W. Sheron, Director, Office of Nuclear Regulatory Research

Glenn M. Tracy, Director, Office of New Reactors

Maureen E. Wylie, Chief Financial Officer

Roy P. Zimmerman, Acting Deputy Executive Director for Materials, Waste, Research, State, Tribal, and Compliance Programs, Office of the Executive Director for Operations

The following individuals will serve as members of the NRC PRB Panel that was established to review appraisals and make recommendations to the appointing and awarding authorities for NRC PRB members:

William M. Dean, Director, Office of Nuclear Reactor Regulation

Marian L. Zobler, Deputy General Counsel

James T. Wiggins, Director, Office of Nuclear Security and Incident Response

All appointments are made pursuant to Section 4314 of Chapter 43 of Title 5 of the United States Code.

Dated at Rockville, Maryland, this 24th day of November, 2014.
For the Nuclear Regulatory Commission.
Miriam L. Cohen,
Secretary, Executive Resources Board.

[FR Doc. 2014-28419 Filed 12-2-14; 8:45 am]

BILLING CODE 7590-01-P